DEPARTMENT OF TRANSPORTATION 4910-15-U

Coast Guard

33 CFR Part 117

[CGD13-00-008]

RIN 2115-AE47

Drawbridge Operations Regulations; Columbia River, OR

AGENCY: Coast Guard, DOT.

ACTION: Temporary final rule.

SUMMARY: The Coast Guard is revising the operating regulations for the dual Interstate 5 drawbridges across the Columbia River, mile 106.5, between Portland, Oregon, and Vancouver, Washington. The temporary rule will enable the bridge owner to paint the lift tower of the northbound bridge by permitting the vertical lift span to be maintained in the closed (down) position from July 15 to September 15, 2000, provided that the water level at the bridge remains at or below 6 feet (Columbia River Datum or CRD) measured as the daily mean.

DATES: This rule is effective from July 15 to September 15, 2000.

ADDRESSES: Unless otherwise noted, documents referred to in this preamble are available for inspection and copying at Commander (oan), Thirteenth Coast Guard District, 915 Second Avenue, Seattle, Washington 98174-1067 or deliver them to room 3510 between 7:45 a.m. and 4:15 p.m., Monday through Friday, except federal holidays.

FOR FURTHER INFORMATION CONTACT: John E. Mikesell, Chief, Plans and Programs Section, Aids to Navigation and Waterways Management Branch, Telephone (206) 220-7272.

SUPPLEMENTARY INFORMATION:

Regulatory History

The Coast Guard published a temporary final rule in the Federal Register (64 FR 37678) on July 13, 1999. That rule temporarily revised the operating regulations from July 15 to September 15, 2000, as well as a similar period in the summer of 1999. Prior to that final rule the Coast Guard published a notice of proposed rulemaking in the Federal Register (64 FR 17134) on April 8, 1999. The Coast Guard received no letters in response to the proposed rulemaking. No public hearing was requested and none was held. Previous discussions with navigational interests and the U.S. Army Corps of Engineers disclosed the optimal time during the year for the closure period. We did not publish a notice of proposed rulemaking (NPRM) for this regulation.

Under 5 U.S.C. 553(b)(B), the Coast Guard finds that good cause exists for not publishing an NPRM. This final rule does not change the previously published bracketing dates for the draw closure. Under 5 U.S.C. 553(d)(3), the Coast Guard finds that good cause exists for making this rule effective less than 30 days after publication in the Federal Register. This rule does not change the previously advertised closure dates, which were published in the Federal Register (64 FR 37678) on July 13, 1999.

Background

The purpose of the temporary change to the operation regulations of § 117.869 is to permit the bridge owner to paint the remaining lift span tower of the northbound bridge. The other tower was painted in the summer of 1999. The adjacent southbound bridge on I-5 is a newer structure and is not included in this painting project. However, its draw span operates normally in unison with the southbound draw span and therefore will be affected by the final rule.

Current containment requirements to prevent pollution from the lead paint removal make it necessary to install an envelope around the tower which supports the movable span and to isolate the wire ropes within the towers from contamination. This containment system makes it impossible to operate the lift span while it is in place. Derigging such a containment system can not be achieved in a timely fashion for opening the drawbridge for the passage of vessels.

The closed period is during that part of the year that coincides with lower water levels on the Columbia River. Most vessels are able to pass through one of the two higher fixed spans of the structure south of the drawspan when the river is low. This obviates the need for the dual draw-bridges to open for these vessels. The containment system will not intrude into the high fixed span or the northern half of the wide fixed span at the same time.

This change to the rule is based on the request of the Oregon Department of Transportation (ODOT). After several discussions with the Coast Guard and waterway users, ODOT requested that the commencement of the project (closure of the drawspans) be permitted when the daily mean river level is less than 6 feet CRD. This offers a more practical start criterion than the previously specified 6 feet (CRD) that did not countenance the intermediate period in July when the river level fluctuates around 6 feet (CRD) on a daily basis. The other issue of great concern is the point at which the river might rise to 6 feet CRD towards the end of the project. As previously described, the project could have been terminated at a rise in river level to 6 feet CRD. In that event the contractor would derig the containment system and restore the draw to normal operation. However, since the containment system cannot be removed quickly, ODOT is concerned that the river level might fall back below 6 feet CRD after an order to derig is received. Derigging for normal operation of the drawspan could take one to two weeks. The Coast Guard concurs that a prediction of three days or more at 6 feet (CRD) for the daily mean will be the minimum period for demanding that the state derig the containment system once it has been installed. The source of the prediction would be the Northwest River Forecast Center, U.S. Army Corps of Engineers. Records indicate that such a rise is improbable before September 15th. Furthermore, the Columbia River Towboat Association has suggested that the state could find relief from derigging at higher water if an assist tug were provided at the bridge owner's expense. In the event that such conditions do occur, the District Commander may elect to delay an order to derig if the draw closure can be mitigated temporarily by the provision of assist tugs at the expense of the state of Oregon.

Discussion of Comments and Changes

The Coast Guard did not publish another proposed rule for the change that is made in this temporary final rule. The only change is a more precise definition of river level for start and stop of the drawspan closure. This change accounts for those days in July every year when the water level may fluctuate above and below 6 feet CRD. The mean daily level of 6 feet CRD will serve the reasonable needs of navigation and the painting project.

Regulatory Evaluation

This final rule is not a significant regulatory action under 3(f) of Executive Order 12866 and does not require an assessment of potential costs and benefits under section 6(a)(3) of that Order. It has not been reviewed by the Office of Management and Budget under that Order. It is not significant under the regulatory policies and procedures of the Department of Transportation (DOT) (44 FR 11040; February 26, 1979). The Coast Guard expects the economic impact of this rule to be so minimal that a full regulatory evaluation under that order to be unnecessary. The final rule would permit vital maintenance to be performed without unreasonable inconvenience to river traffic.

Small Entities

Under the Regulatory Flexibility Act (5 U.S.C. 601 et seq.), we considered whether this rule would have a significant economic impact on a substantial number of small entities. “Small entities” include small businesses, not-for-profit organizations that are independently owned and operated and are not dominant in their fields, and governmental jurisdictions with populations of less than 50,000. The Coast Guard certifies that this rule will not have a significant impact on a substantial number of small entities.

Collection of Information

This proposal calls for no new collection of information requirements under the Paperwork Reduction Act (44 U.S.C. 3501-3520).

Federalism

We have analyzed this final rule in accordance with the principles and criteria contained in Executive Order 13132, and have determined that this rule does not have implications for federalism under that Order.

Unfunded Mandates Reform Act

The Unfunded Mandates Reform Act of 1995 (2 U.S.C. 1531-1538) governs the issuance of federal regulations that require unfunded mandates. An unfunded mandate is a regulation that requires a state, local, or tribal government or the private sector to incur direct costs without the federal government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this final rule and concluded that, under Figure 2-1, paragraph 32(e), of Commandant Instruction M16475.1C, this rule is categorically excluded from further environmental documentation because promulgation of changes to drawbridge regulations have been found not to have a significant effect on the environment. A written “Categorical Exclusion Determination” is not required for this final rule.

List of Subjects in 33 CFR Part 117

Bridges.

Regulations

For the reasons set out in the preamble, the Coast Guard amends 33 CFR part 117 as follows:

PART 117—DRAWBRIDGE OPERATION REGULATIONS

1. The authority citation for Part 117 continues to read as follows:

Authority: 33 U. S. C. 499; 49 CFR 1.46; 33 CFR 1.05-1(g); section 117.255 also issued under the authority of Pub. L. 102-587, 106 Stat. 5039.

2. In § 117.869, paragraph (a)(3) is removed, and from July 15, 2000, to September 15, 2000, a new paragraph (a)(3) is added to read as follows:

§ 117.869 Columbia River.

(a) * * *

(3) The draws of the dual Interstate 5 Bridges, mile 106.5, between Portland, OR, and Vancouver, WA, need not open for the passage of vessels from July 15 to September 15, 2000, provided that the river level remains at or below 6 feet Columbia River Datum for a daily mean. If the river level rises to 6 feet or more measured as the daily mean for more than three consecutive days prior to September 15, 2000, the draws shall operate as provided in paragraphs (a)(1) and (2) of this section when directed by the District Commander.

Dated: June 15, 2000.
Erroll Brown,
Rear Admiral, U.S. Coast Guard, Commander, Thirteenth Coast Guard District.

[FR Doc. 00-15953 Filed 6-22-00; 8:45 am]

BILLING CODE 4910-15-U